DEPARTMENT OF HEALTH AND HUMAN SERVICES

Food and Drug Administration

[Docket No. FDA-2019-N-4329]

Determination That KENALOG (Triamcinolone Acetonide) Ointment, 0.025% and 0.1%, and Other Drug Products Were Not Withdrawn From Sale for Reasons of Safety or Effectiveness

AGENCY: Food and Drug Administration, HHS.

ACTION: Notice.

SUMMARY: The Food and Drug Administration (FDA or Agency) has determined that the drug products listed in this document were not withdrawn from sale for reasons of safety or effectiveness. This determination means that FDA will not begin procedures to withdraw approval of abbreviated new drug applications (ANDAs) that refer to these drug products, and it will allow FDA to continue to approve ANDAs that refer to the products as long as they meet relevant legal and regulatory requirements.

FOR FURTHER INFORMATION CONTACT: Stacy Kane, Center for Drug Evaluation and Research, Food and Drug Administration, 10903 New Hampshire Ave., Bldg. 51, Rm. 6236, Silver Spring, MD 20993-0002, 301-796-8363, Stacy.Kane@fda.hhs.gov.

SUPPLEMENTARY INFORMATION: In 1984, Congress enacted the Drug Price Competition and Patent Term Restoration Act of 1984 (Pub. L. 98-417) (the 1984 amendments), which authorized the approval of duplicate versions of drug products approved under an ANDA procedure. ANDA applicants must, with certain exceptions, show that the drug for which they are seeking approval contains the same active ingredient in the same strength and dosage form as the “listed drug,” which is a version of the drug that was previously approved. ANDA applicants do not have to repeat the extensive clinical testing otherwise necessary to gain approval of a new drug application (NDA).

The 1984 amendments include what is now section 505(j)(7) of the Federal Food, Drug, and Cosmetic Act (21 U.S.C. 355(j)(7)), which requires FDA to publish a list of all approved drugs. FDA publishes this list as part of the “Approved Drug Products With Therapeutic Equivalence Evaluations,” which is generally known as the “Orange Book.” Under FDA regulations, a drug is removed from the list if the Agency withdraws or suspends approval of the drug's NDA or ANDA for reasons of safety or effectiveness, or if FDA determines that the listed drug was withdrawn from sale for reasons of safety or effectiveness (21 CFR 314.162).

Under § 314.161(a) (21 CFR 314.161(a)), the Agency must determine whether a listed drug was withdrawn from sale for reasons of safety or effectiveness: (1) Before an ANDA that refers to that listed drug may be approved, (2) whenever a listed drug is voluntarily withdrawn from sale and ANDAs that refer to the listed drug have been approved, and (3) when a person petitions for such a determination under 21 CFR 10.25(a) and 10.30. Section 314.161(d) provides that if FDA determines that a listed drug was withdrawn from sale for safety or effectiveness reasons, the Agency will initiate proceedings that could result in the withdrawal of approval of the ANDAs that refer to the listed drug.

FDA has become aware that the drug products listed in the table are no longer being marketed.

Application No. | Drug name | Active ingredient(s) | Strength(s) | Dosage form/route | Applicant
NDA 011600 | KENALOG | Triamcinolone Acetonide | 0.025%; 0.1% | Ointment; Topical | Mylan Pharmaceuticals, Inc.
NDA 012827 | ROBINUL ROBINUL FORTE | Glycopyrrolate Glycopyrrolate | 1 milligram (mg) 2 mg | Tablet; Oral Tablet; Oral. | Casper Pharma LLC.
NDA 018029 | RITALIN-SR | Methylphenidate Hydrochloride | 20 mg | Extended-Release Tablet; Oral | Novartis Pharmaceuticals, Corp.
NDA 018164 | ANAPROX | Naproxen Sodium | Equivalent to (EQ) 250 mg Base | Tablet; Oral | ATNAHS Pharma U.S., Ltd.
NDA 018405 | AYGESTIN | Norethindrone Acetate | 5 mg | Tablet; Oral | Teva Branded Pharmaceutical Products R&D, Inc.
NDA 018452 | SEPTRA | Sulfamethoxazole; Trimethoprim | 16 mg/milliliter (mL); 80 mg/mL | Injectable; Injection | Monarch Pharmaceuticals, Inc.
NDA 018703 | ZANTAC 150 ZANTAC 300 | Ranitidine Hydrochloride Ranitidine Hydrochloride | EQ 150 mg Base EQ 300 mg Base | Tablet; Oral Tablet; Oral. | GlaxoSmithKline.
NDA 019111 | TUSSIONEX PENNKINETIC | Chlorpheniramine Polistirex; Hydrocodone Polistirex | EQ 8 mg Chlorphenir- amine Maleate/5 mL; EQ 10 mg Hydrocodone Bitartrate/5 mL | Extended-Release Suspension; Oral | UCB, Inc.
NDA 019507 | KERLONE | Betaxolol Hydrochloride | 10 mg; 20 mg | Tablets; Oral | Sanofi-Aventis U.S. LLC.
NDA 019537 | CIPRO | Ciprofloxacin Hydrochloride | EQ 100 mg Base; EQ 750 mg Base | Tablet; Oral | Bayer Healthcare Pharmaceuticals, Inc.
NDA 019937 | ADENOCARD | Adenosine | 3 mg/mL | Injectable; Injection | Astellas Pharma U.S., Inc.
NDA 020415 | REMERON | Mirtazapine | 45 mg | Tablet; Oral | Organon USA, Inc.
NDA 020528 | MAVIK | Trandolapril | 1 mg; 2 mg; 4 mg | Tablet; Oral | AbbVie, Inc.
NDA 020864 | MAXALT | Rizatriptan Benzoate | EQ 5 mg Base | Tablet; Oral | Merck Sharp & Dohme Corp.
NDA 020865 | MAXALT-MLT | Rizatriptan Benzoate | EQ 5 mg Base | Orally Disintegrating Tablet; Oral | Do.
NDA 020945 | NORVIR | Ritonavir | 100 mg | Capsule; Oral | AbbVie, Inc.
NDA 021131 | ZYVOX | Linezolid | 400 mg/200 mL (2 mg/mL) | Injectable; Injection | Pharmacia & Upjohn Co.
NDA 021381 | XYLOCAINE DENTAL WITH EPINEPHRINE | Epinephrine; Lidocaine Hydrochloride | 0.01 mg/mL/2%; 0.02 mg/mL/2% | Injectable; Injection | DENTSPLY Pharmaceutical, Inc.
NDA 021511 | COPEGUS | Ribavirin | 200 mg; 400 mg | Tablet; Oral | Hoffmann La-Roche, Inc.
NDA 022325 | NEXTERONE | Amiodarone Hydrochloride | 50 mg/mL | Injectable; Injection | Baxter Healthcare, Corp.
NDA 050605 | CEFTIN | Cefuroxime Axetil | EQ 125 mg Base; EQ 250 mg Base; EQ 500 mg Base | Tablet; Oral | GlaxoSmithKline.
NDA 050730 | ZITHROMAX | Azithromycin | EQ 600 mg Base | Tablet; Oral | Pfizer, Inc.
NDA 050746 | BACTROBAN | Mupirocin Calcium | EQ 2% Base | Cream; Topical | GlaxoSmithKline.
NDA 205103 | YOSPRALA | Aspirin; Omeprazole | 81 mg/40 mg; 325 mg/40 mg | Delayed-Release Tablet; Oral | Genus Lifesciences, Inc.

FDA has reviewed its records and, under § 314.161, has determined that the drug products listed were not withdrawn from sale for reasons of safety or effectiveness. Accordingly, the Agency will continue to list the drug products in the “Discontinued Drug Product List” section of the Orange Book. The “Discontinued Drug Product List” identifies, among other items, drug products that have been discontinued from marketing for reasons other than safety or effectiveness.

Approved ANDAs that refer to the NDAs and ANDAs listed are unaffected by the discontinued marketing of the products subject to those NDAs and ANDAs. Additional ANDAs that refer to these products may also be approved by the Agency if they comply with relevant legal and regulatory requirements. If FDA determines that labeling for these drug products should be revised to meet current standards, the Agency will advise ANDA applicants to submit such labeling.

Dated: September 24, 2019.
Lowell J. Schiller,
Principal Associate Commissioner for Policy.

[FR Doc. 2019-21201 Filed 9-30-19; 8:45 am]

BILLING CODE 4164-01-P